DEPARTMENT OF AGRICULTURE

Forest Service

Southwest Oregon Province Interagency Executive Committee (PIEC) Advisory Committee

AGENCY: Forest Service, USDA.

ACTION: Notice of meeting.

SUMMARY: The Southwest Oregon PIEC Advisory Committee will meet on April 12, 2000 in Medford, Oregon at the Medford Bureau of Land Management Office at 3040 Biddle Road. The meeting will begin at 9 a.m. and continue until 5 p.m. Agenda items to be covered include: (1) Cascade/Siskiyou Ecological Emphasis Area; (2) Public Comment; (3) Province Advisory Committee Recharter; and (4) Current issues as perceived by Advisory Committee members.

FOR FURTHER INFORMATION CONTACT: Direct questions regarding this meeting to Roger Evenson, Province Advisory Committee Coordinator, USDA, Forest Service, Umpqua National Forest, 2900 NW Stewart Parkway, Roseburg, Oregon 97470, phone (541) 957-3344.

Dated: March 28, 2000.
Michael D. Hupp,
Acting Designated Federal Official.

[FR Doc. 00-8088 Filed 3-31-00; 8:45 am]

BILLING CODE 3410-11-M